DEPARTMENT OF TRANSPORTATION

Federal Aviation Administration

14 CFR Part 97

[Docket No. 30957; Amdt. No. 3590]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 23, 2014. The compliance date for each SIAP, associated Takeoff Minimums, and ODP is specified in the amendatory provisions.

The incorporation by reference of certain publications listed in the regulations is approved by the Director of the Federal Register as of May 23, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on April 25, 2014.
John Duncan,
Director, Flight Standards Service.

Adoption of the Amendment

Accordingly, pursuant to the authority delegated to me, Title 14, Code of Federal Regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
29-May-14 | AR | Nashville | Howard County | 4/2509 | 3/14/14 | This NOTAM, published in TL 14-10, is hereby rescinded in its entirety.
29-May-14 | AR | Camden | Harrell Field | 4/2916 | 3/18/14 | This NOTAM, published in TL 14-10, is hereby rescinded in its entirety.
29-May-14 | AR | Camden | Harrell Field | 4/2917 | 3/18/14 | This NOTAM, published in TL 14-10, is hereby rescinded in its entirety.
29-May-14 | CQ | Rota Island | Benjamin Taisacan Mangiona Intl | 4/4153 | 3/18/14 | This NOTAM, published in TL 14-10, is hereby rescinded in its entirety.
29-May-14 | IL | Chicago | Chicago O'Hare Intl | 4/0423 | 4/22/14 | RNAV (GPS) RWY 14L, Amdt 1E.
29-May-14 | IL | Chicago | Chicago O'Hare Intl | 4/0424 | 4/22/14 | RNAV (GPS) RWY 27R, Amdt 2A.
29-May-14 | CA | La Verne | Brackett Field | 4/0973 | 4/17/14 | LOC RWY 26L, Orig.
29-May-14 | CA | La Verne | Brackett Field | 4/0974 | 4/17/14 | RNAV (GPS) RWY 26L, Orig.
29-May-14 | CA | La Verne | Brackett Field | 4/0975 | 4/17/14 | ILS RWY 26L, Amdt 3.
29-May-14 | CA | La Verne | Brackett Field | 4/0976 | 4/17/14 | VOR OR GPS A, Amdt 5C.
29-May-14 | IL | Chicago | Chicago O'Hare Intl | 4/1209 | 4/22/14 | LOC RWY 4L, Amdt 22.
29-May-14 | IL | Chicago | Chicago O'Hare Intl | 4/1210 | 4/22/14 | RNAV (GPS) RWY 4L, Amdt 2.
29-May-14 | IL | Chicago | Chicago O'Hare Intl | 4/1212 | 4/22/14 | RNAV (GPS) RWY 27L, Amdt 3A.
29-May-14 | IL | Chicago | Chicago O'Hare Intl | 4/1213 | 4/22/14 | RNAV (GPS) RWY 10C, Orig.
29-May-14 | IL | Chicago | Chicago O'Hare Intl | 4/1215 | 4/22/14 | RNAV (GPS) RWY 22R, Amdt 2.
29-May-14 | IL | Chicago | Chicago O'Hare Intl | 4/1216 | 4/22/14 | ILS OR LOC RWY 22R, Amdt 9.
29-May-14 | IL | Chicago | Chicago O'Hare Intl | 4/1217 | 4/22/14 | RNAV (GPS) RWY 28C, Orig-A.
29-May-14 | IL | Chicago | Chicago O'Hare Intl | 4/1218 | 4/22/14 | RNAV (GPS) RWY 14R, Amdt 2B.
29-May-14 | IL | Chicago | Chicago O'Hare Intl | 4/1229 | 4/22/14 | RNAV (GPS) RWY 28R, Amdt 3.
29-May-14 | IL | Chicago | Chicago O'Hare Intl | 4/1238 | 4/22/14 | RNAV (GPS) RWY 9L, Amdt 2A.
29-May-14 | IL | Chicago | Chicago O'Hare Intl | 4/1242 | 4/22/14 | ILS OR LOC RWY 9R, Amdt 10A.
29-May-14 | IL | Chicago | Chicago O'Hare Intl | 4/1243 | 4/22/14 | RNAV (GPS) RWY 9R, Amdt 3A.
29-May-14 | IL | Chicago | Chicago O'Hare Intl | 4/1248 | 4/22/14 | RNAV (GPS) RWY 10L, Amdt 4.
29-May-14 | IL | Chicago | Chicago O'Hare Intl | 4/1249 | 4/22/14 | RNAV (GPS) RWY 4R, Amdt 1.
29-May-14 | IL | Chicago | Chicago O'Hare Intl | 4/1250 | 4/22/14 | ILS OR LOC RWY 22L, Amdt 5.
29-May-14 | IL | Chicago | Chicago O'Hare Intl | 4/1251 | 4/22/14 | RNAV (GPS) RWY 22L, Amdt 1.
29-May-14 | WA | Spokane | Felts Field | 4/1542 | 4/18/14 | ILS OR LOC/DME RWY 22R, Amdt 1.
29-May-14 | VA | Abingdon | Virginia Highlands | 4/2152 | 4/15/14 | LOC RWY 24, Amdt 4.
29-May-14 | VA | Abingdon | Virginia Highlands | 4/2153 | 4/15/14 | RNAV (GPS) RWY 6, Amdt 1.
29-May-14 | VA | Abingdon | Virginia Highlands | 4/2162 | 4/15/14 | RNAV (GPS) RWY 24, Amdt 1.
29-May-14 | FL | Tampa | Tampa Executive | 4/2165 | 4/15/14 | ILS OR LOC RWY 23, Amdt 1A.
29-May-14 | FL | Tampa | Tampa Executive | 4/2166 | 4/15/14 | RNAV (GPS) RWY 5, Orig.
29-May-14 | FL | Tampa | Tampa Executive | 4/2167 | 4/15/14 | RNAV (GPS) RWY 23, Amdt 1A.
29-May-14 | NY | Farmingdale | Republic | 4/2227 | 4/17/14 | ILS OR LOC RWY 14, Amdt 8B.
29-May-14 | NY | Farmingdale | Republic | 4/2228 | 4/17/14 | RNAV (RNP) Z RWY 14, Orig.
29-May-14 | NY | Farmingdale | Republic | 4/2229 | 4/17/14 | RNAV (GPS) Y RWY 14, Amdt 2A.
29-May-14 | NY | Farmingdale | Republic | 4/2230 | 4/17/14 | RNAV (GPS) RWY 1, Amdt 2.
29-May-14 | NY | Farmingdale | Republic | 4/2250 | 4/17/14 | RNAV (GPS) RWY 19, Amdt 2A.
29-May-14 | WY | Sheridan | Sheridan County | 4/2365 | 4/11/14 | RNAV (GPS) RWY 32, Orig-A.
29-May-14 | WY | Sheridan | Sheridan County | 4/2366 | 4/11/14 | RNAV (GPS) RWY 14, Orig-A.
29-May-14 | WY | Sheridan | Sheridan County | 4/2367 | 4/11/14 | VOR RWY 14, Amdt 1A.
29-May-14 | WY | Sheridan | Sheridan County | 4/2368 | 4/11/14 | ILS OR LOC/DME RWY 32, Amdt 1A.
29-May-14 | MS | Cleveland | Cleveland Muni | 4/2750 | 4/11/14 | RNAV (GPS) RWY 36, Orig-A.
29-May-14 | DC | Washington | Manassas Rgnl/Harry P. Davis Field | 4/3262 | 4/11/14 | RNAV (GPS) RWY 16L, Amdt 1A.
29-May-14 | FL | Daytona Beach | Daytona Beach Intl | 4/3268 | 4/21/14 | VOR RWY 16, Amdt 18B.
29-May-14 | FL | Daytona Beach | Daytona Beach Intl | 4/3269 | 4/21/14 | RNAV (GPS) RWY 34, Amdt 2C.
29-May-14 | FL | Daytona Beach | Daytona Beach Intl | 4/3273 | 4/21/14 | RNAV (GPS) RWY 25L, Amdt 1A.
29-May-14 | FL | Daytona Beach | Daytona Beach Intl | 4/3274 | 4/21/14 | RNAV (GPS) RWY 25R, Amdt 3A.
29-May-14 | FL | Daytona Beach | Daytona Beach Intl | 4/3275 | 4/21/14 | RNAV (GPS) RWY 7R, Orig-D.
29-May-14 | FL | Daytona Beach | Daytona Beach Intl | 4/3276 | 4/21/14 | ILS OR LOC RWY 25R, Orig-A.
29-May-14 | FL | Daytona Beach | Daytona Beach Intl | 4/3277 | 4/21/14 | RNAV (GPS) RWY 7L, Amdt 1A.
29-May-14 | FL | Daytona Beach | Daytona Beach Intl | 4/3278 | 4/21/14 | RNAV (GPS) RWY 16, Amdt 1B.
29-May-14 | FL | Daytona Beach | Daytona Beach Intl | 4/3279 | 4/21/14 | ILS OR LOC RWY 7L, Amdt 31A.
29-May-14 | PA | Hazleton | Hazleton Regional | 4/3301 | 4/17/14 | RNAV (GPS) RWY 28, Orig.
29-May-14 | PA | Hazleton | Hazleton Regional | 4/3302 | 4/17/14 | LOC RWY 28, Amdt 6.
29-May-14 | PA | Hazleton | Hazleton Regional | 4/3303 | 4/17/14 | RNAV (GPS) RWY 10, Amdt 1.
29-May-14 | PA | Hazleton | Hazleton Regional | 4/3315 | 4/17/14 | VOR RWY 10, Amdt 11.
29-May-14 | PA | Hazleton | Hazleton Regional | 4/3316 | 4/17/14 | VOR RWY 28, Amdt 9.
29-May-14 | PA | Hazleton | Hazleton Regional | 4/3323 | 4/18/14 | Takeoff Minimums and Obstacle DP, Amdt 2.
29-May-14 | MO | Sedalia | Sedalia Rgnl | 4/3328 | 4/17/14 | NDB RWY 18, Amdt 8A.
29-May-14 | TN | Lawrenceburg | Lawrenceburg-Lawrence County | 4/3330 | 4/11/14 | RNAV (GPS) RWY 35, Orig.
29-May-14 | VA | South Hill | Mecklenburg-Brunswick Rgnl | 4/3340 | 4/18/14 | RNAV (GPS) RWY 1, Orig-A.
29-May-14 | VA | South Hill | Mecklenburg-Brunswick Rgnl | 4/3341 | 4/18/14 | LOC RWY 1, Orig-B.
29-May-14 | VA | South Hill | Mecklenburg-Brunswick Rgnl | 4/3344 | 4/18/14 | RNAV (GPS) RWY 19, Orig-A.
29-May-14 | MS | Cleveland | Cleveland Muni | 4/3346 | 4/11/14 | VOR A, Amdt 9.
29-May-14 | AK | St Mary's | St Mary's | 4/3388 | 4/15/14 | RNAV (GPS) RWY 17, Amdt 3.
29-May-14 | NJ | Old Bridge | Old Bridge | 4/3425 | 4/11/14 | VOR RWY 24, Amdt 4A.
29-May-14 | AK | Deadhorse | Deadhorse | 4/3534 | 4/21/14 | ILS OR LOC/DME RWY 5, Amdt 2D.
29-May-14 | AK | Deadhorse | Deadhorse | 4/3535 | 4/21/14 | RNAV (GPS) Y RWY 23, Amdt 1B.
29-May-14 | AK | Deadhorse | Deadhorse | 4/3536 | 4/21/14 | VOR/DME RWY 5, Amdt 2.
29-May-14 | AK | Deadhorse | Deadhorse | 4/3537 | 4/21/14 | VOR/DME RWY 23, Amdt 4.
29-May-14 | AK | Deadhorse | Deadhorse | 4/3538 | 4/21/14 | RNAV (GPS) Y RWY 5, Amdt 1B.
29-May-14 | CA | Brawley | Brawley Muni | 4/3561 | 4/18/14 | VOR/DME A, Amdt 1.
29-May-14 | CA | Brawley | Brawley Muni | 4/3563 | 4/18/14 | VOR/DME B, Amdt 2.
29-May-14 | AL | Aliceville | George Downer | 4/3638 | 4/11/14 | RNAV (GPS) RWY 6, Orig.
29-May-14 | NC | Pinehurst/Southern Pines | Moore County | 4/3639 | 4/11/14 | ILS Z OR LOC/DME Z RWY 5, Amdt 2.
29-May-14 | NC | Pinehurst/Southern Pines | Moore County | 4/3640 | 4/11/14 | ILS Y OR LOC/DME Y RWY, 5 Orig.
29-May-14 | NY | Syracuse | Syracuse Hancock Intl | 4/4166 | 4/21/14 | ILS OR LOC RWY 28, Amdt 34.
29-May-14 | WA | Seattle | Seattle-Tacoma Intl | 4/4170 | 4/17/14 | ILS OR LOC RWY 34R, Amdt 2B.
29-May-14 | TX | Panhandle | Panhandle-Carson County | 4/4546 | 4/11/14 | VOR A, Orig.
29-May-14 | ID | Rexburg | Rexburg-Madison County | 4/4604 | 4/21/14 | RNAV (GPS) RWY 35, Amdt 1A.
29-May-14 | NY | Syracuse | Syracuse Hancock Intl | 4/4606 | 4/15/14 | RNAV (RNP) Y RWY 10, Orig.
29-May-14 | NY | Syracuse | Syracuse Hancock Intl | 4/4607 | 4/15/14 | RNAV (GPS) Z RWY 10, Amdt 2B.
29-May-14 | NY | Syracuse | Syracuse Hancock Intl | 4/4609 | 4/15/14 | RNAV (RNP) Y RWY 28, Orig.
29-May-14 | NY | Syracuse | Syracuse Hancock Intl | 4/4611 | 4/15/14 | RNAV (GPS) Z RWY 28, Amdt 2A.
29-May-14 | NY | Syracuse | Syracuse Hancock Intl | 4/4612 | 4/15/14 | ILS RWY 28 (CAT II), Amdt 34.
29-May-14 | NY | Syracuse | Syracuse Hancock Intl | 4/4614 | 4/15/14 | TACAN RWY 33, Orig.
29-May-14 | NY | Syracuse | Syracuse Hancock Intl | 4/4615 | 4/15/14 | ILS RWY 28 (SA CAT I), Amdt 34.
29-May-14 | NY | Syracuse | Syracuse Hancock Intl | 4/4616 | 4/15/14 | VOR RWY 15, Amdt 23.
29-May-14 | ID | Bonners Ferry | Boundary County | 4/4620 | 4/11/14 | RNAV (GPS) RWY 2, Orig-B.
29-May-14 | TN | Lawrenceburg | Lawrenceburg-Lawrence County | 4/4651 | 4/18/14 | RNAV (GPS) RWY 17, Orig.
29-May-14 | MT | Ennis | Ennis-Big Sky | 4/5141 | 4/15/14 | RNAV (GPS) RWY 16, Orig.
29-May-14 | MI | Flint | Bishop Intl | 4/6129 | 4/18/14 | ILS OR LOC RWY 9, Amdt 22B.
29-May-14 | IL | Chicago | Chicago O'Hare Intl | 4/6260 | 4/22/14 | ILS OR LOC RWY 10C, ILS RWY 10C (SA CAT I), ILS RWY 10C (CAT II & III), Orig-A.
29-May-14 | IL | Chicago | Chicago O'Hare Intl | 4/6261 | 4/22/14 | ILS OR LOC RWY 9L, ILS RWY 9L (SA CAT I), ILS RWY 9L (CAT II & III), Amdt 2B.
29-May-14 | IL | Chicago | Chicago O'Hare Intl | 4/6262 | 4/22/14 | ILS OR LOC RWY 10L, ILS RWY 10L (SA CAT I), ILS RWY 10L (CAT I & II), Amdt 17.
29-May-14 | IL | Chicago | Chicago O'Hare Intl | 4/6263 | 4/22/14 | ILS OR LOC RWY 28R, ILS RWY 28R (SA CAT I), ILS RWY 29R (SA CAT II & III), Amdt 16.
29-May-14 | IL | Chicago | Chicago O'Hare Intl | 4/6264 | 4/22/14 | ILS OR LOC RWY 27L, ILS RWY 27L (SA CAT I), ILS RWY 27L (CAT II & III), Amdt 29A.
29-May-14 | IL | Chicago | Chicago O'Hare Intl | 4/6267 | 4/22/14 | ILS OR LOC RWY 28C, ILS RWY 28C (SA CAT I), ILS RWY 28C (CAT II & III), Orig.
29-May-14 | IL | Chicago | Chicago O'Hare Intl | 4/6273 | 4/22/14 | ILS OR LOC RWY 27R, ILS RWY 27R (SA CAT I), ILS RWY 27R (SA CAT II & III), Amdt 2A.
29-May-14 | AK | Deadhorse | Deadhorse | 4/6502 | 4/21/14 | RNAV (RNP) Z RWY 23, Orig-A.
29-May-14 | GA | Atlanta | Atlanta South Rgnl | 4/6802 | 4/16/14 | RNAV (GPS) RWY 6, Amdt 1A.
29-May-14 | AK | Chevak | Chevak | 4/6850 | 4/18/14 | RNAV (GPS) RWY 2, Orig-A.
29-May-14 | AK | Chevak | Chevak | 4/6851 | 4/18/14 | RNAV (GPS) RWY 20, Orig-A.
29-May-14 | AK | Hooper Bay | Hooper Bay | 4/7005 | 4/17/14 | RNAV (GPS) RWY 13, Amdt 1.
29-May-14 | AK | Hooper Bay | Hooper Bay | 4/7006 | 4/17/14 | RNAV (GPS) RWY 31, Amdt 1.
29-May-14 | IN | Kokomo | Kokomo Muni | 4/7031 | 4/15/14 | RNAV (GPS) RWY 23, Amdt 1.
29-May-14 | IN | Kokomo | Kokomo Muni | 4/7032 | 4/15/14 | RNAV (GPS) RWY 32, Orig.
29-May-14 | IN | Kokomo | Kokomo Muni | 4/7033 | 4/15/14 | ILS OR LOC RWY 23, Amdt 10.
29-May-14 | TX | Carrizo Springs | Dimmit County | 4/7211 | 4/17/14 | RNAV (GPS) RWY 13, Orig.
29-May-14 | OH | Hamilton | Butler Co Rgnl-Hogan Field | 4/7382 | 4/15/14 | ILS OR LOC RWY 29, Amdt 1B.
29-May-14 | MO | Fort Leonard Wood | Waynesville-St. Robert Rgnl Forney Fld | 4/7397 | 4/16/14 | ILS OR LOC RWY 14, Amdt 1.
29-May-14 | SC | Walterboro | Lowcountry Rgnl | 4/7404 | 4/17/14 | RNAV (GPS) RWY 5, Amdt 1.
29-May-14 | SC | Walterboro | Lowcountry Rgnl | 4/7405 | 4/17/14 | RNAV (GPS) RWY 23, Amdt 1.
29-May-14 | SC | Walterboro | Lowcountry Rgnl | 4/7414 | 4/17/14 | ILS OR LOC/DME RWY 23, Amdt 1A.
29-May-14 | IL | De Kalb | De Kalb Taylor Muni | 4/7415 | 4/16/14 | ILS OR LOC RWY 2, Orig-C.
29-May-14 | AR | Walnut Ridge | Walnut Ridge Rgnl | 4/7417 | 4/16/14 | RNAV (GPS) RWY 4, Orig.
29-May-14 | AK | McGrath | McGrath | 4/7434 | 4/17/14 | RNAV (GPS) RWY 16, Amdt 1.
29-May-14 | WA | Spokane | Felts Field | 4/7435 | 4/15/14 | VOR RWY 4L, Amdt 5.
29-May-14 | AR | Melbourne | Melbourne Muni-John E Miller Field | 4/7436 | 4/16/14 | RNAV (GPS) RWY 3, Amdt 1A.
29-May-14 | WA | Spokane | Felts Field | 4/7438 | 4/15/14 | RNAV (GPS) RWY 4L, Amdt 1A.
29-May-14 | OH | Lebanon | Warren County/John Lane Field | 4/7441 | 4/17/14 | RNAV (GPS) RWY 19, Amdt 3.
29-May-14 | IL | Flora | Flora Muni | 4/7443 | 4/16/14 | RNAV (GPS) RWY 3, Amdt 2.
29-May-14 | WA | Seattle | Seattle-Tacoma Intl | 4/7453 | 4/17/14 | ILS RWY 34L (SA CAT I & II), Amdt 1B.
29-May-14 | WA | Seattle | Seattle-Tacoma Intl | 4/7454 | 4/17/14 | ILS RWY 16 C (CAT II & III), Amdt 14.
29-May-14 | WA | Seattle | Seattle-Tacoma Intl | 4/7455 | 4/17/14 | ILS RWY 16R (CAT II & III), Amdt 2A.
29-May-14 | WA | Seattle | Seattle-Tacoma Intl | 4/7456 | 4/17/14 | ILS OR LOC RWY 34C, Amdt 3B.
29-May-14 | WA | Seattle | Seattle-Tacoma Intl | 4/7457 | 4/17/14 | ILS RWY 16C (SA CAT I), Amdt 14.
29-May-14 | WA | Seattle | Seattle-Tacoma Intl | 4/7458 | 4/17/14 | RNAV (RNP) Z RWY 16C, Orig-A.
29-May-14 | WA | Seattle | Seattle-Tacoma Intl | 4/7459 | 4/17/14 | RNAV (RNP) Z RWY 34C, Orig.
29-May-14 | WA | Seattle | Seattle-Tacoma Intl | 4/7460 | 4/17/14 | RNAV (GPS) Y RWY 16L, Amdt 3.
29-May-14 | WA | Seattle | Seattle-Tacoma Intl | 4/7461 | 4/17/14 | RNAV (RNP) Z RWY 34L, Orig-A.
29-May-14 | WA | Seattle | Seattle-Tacoma Intl | 4/7462 | 4/17/14 | ILS OR LOC RWY 16L, Amdt 5A.
29-May-14 | WA | Seattle | Seattle-Tacoma Intl | 4/7463 | 4/17/14 | ILS OR LOC RWY 16R, Amdt 2A.
29-May-14 | WA | Seattle | Seattle-Tacoma Intl | 4/7464 | 4/17/14 | RNAV (RNP) Z RWY 16R, Orig.
29-May-14 | WA | Seattle | Seattle-Tacoma Intl | 4/7465 | 4/17/14 | ILS OR LOC RWY 34L, Amdt 1B.
29-May-14 | WA | Seattle | Seattle-Tacoma Intl | 4/7466 | 4/17/14 | RNAV (GPS) Y RWY 34C, Amdt 2A.
29-May-14 | WA | Seattle | Seattle-Tacoma Intl | 4/7467 | 4/17/14 | ILS RWY 16R (SA CAT I), Amdt 2A.
29-May-14 | WA | Seattle | Seattle-Tacoma Intl | 4/7468 | 4/17/14 | ILS RWY 34C (SA CAT I & II), Amdt 3B.
29-May-14 | WA | Seattle | Seattle-Tacoma Intl | 4/7470 | 4/17/14 | ILS RWY 16L (CAT II & III), Amdt 5A.
29-May-14 | WA | Seattle | Seattle-Tacoma Intl | 4/7471 | 4/17/14 | ILS RWY 16L (SA CAT I), Amdt 5A.
29-May-14 | WA | Seattle | Seattle-Tacoma Intl | 4/7472 | 4/17/14 | RNAV (RNP) Z RWY 16L, Orig.
29-May-14 | WA | Seattle | Seattle-Tacoma Intl | 4/7473 | 4/17/14 | RNAV (RNP) Z RWY 34R, Orig-A.
29-May-14 | WA | Seattle | Seattle-Tacoma Intl | 4/7475 | 4/17/14 | RNAV (GPS) Y RWY 16C, Amdt 2.
29-May-14 | WA | Seattle | Seattle-Tacoma Intl | 4/7476 | 4/17/14 | RNAV (GPS) Y RWY 16R, Amdt 1.
29-May-14 | WA | Seattle | Seattle-Tacoma Intl | 4/7477 | 4/17/14 | RNAV (GPS) Y RWY 34L, Amdt 1A.
29-May-14 | HI | Honolulu | Honolulu Intl | 4/7499 | 4/15/14 | ILS Y RWY 4R, Amdt 1.
29-May-14 | HI | Honolulu | Honolulu Intl | 4/7502 | 4/15/14 | ILS Z RWY 4R, Amdt 1.
29-May-14 | WY | Cowley/Lovell/Byron | North Big Horn County | 4/7844 | 4/17/14 | NDB RWY 9, Amdt 2.
29-May-14 | WY | Cowley/Lovell/Byron | North Big Horn County | 4/7845 | 4/17/14 | RNAV (GPS) RWY 9, Orig.
29-May-14 | LA | Springhill | Springhill | 4/7846 | 4/16/14 | RNAV (GPS) RWY 36, Orig.
29-May-14 | FL | Fort Pierce | St Lucie County Intl | 4/7890 | 4/16/14 | VOR/DME RWY 14, Amdt 9A.
29-May-14 | FL | Fort Pierce | St Lucie County Intl | 4/7891 | 4/16/14 | RNAV (GPS) RWY 14, Amdt 2.
29-May-14 | FL | Fort Pierce | St Lucie County Intl | 4/7892 | 4/16/14 | RNAV (GPS) RWY 32, Amdt 1A.
29-May-14 | AK | St Mary's | St Mary's | 4/7900 | 4/15/14 | RNAV (GPS) RWY 35, Amdt 2.
29-May-14 | AK | St Mary's | St Mary's | 4/7901 | 4/15/14 | LOC/DME RWY 17, Amdt 5.
29-May-14 | TX | Breckenridge | Stephens County | 4/7909 | 4/17/14 | RNAV (GPS) RWY 35, Orig.
29-May-14 | LA | Opelousas | St Landry Parish-Ahart Field | 4/7912 | 4/16/14 | NDB RWY 18, Amdt 3.
29-May-14 | LA | Opelousas | St Landry Parish-Ahart Field | 4/7913 | 4/16/14 | RNAV (GPS) RWY 18, Amdt 1.
29-May-14 | WI | Sheboygan | Sheboygan County Memorial | 4/7916 | 4/17/14 | RNAV (GPS) RWY 4, Amdt 3.
29-May-14 | WI | Sheboygan | Sheboygan County Memorial | 4/7917 | 4/17/14 | VOR RWY 22, Amdt 9.
29-May-14 | WI | Sheboygan | Sheboygan County Memorial | 4/7919 | 4/17/14 | RNAV (GPS) RWY 31, Orig.
29-May-14 | WI | Sheboygan | Sheboygan County Memorial | 4/7922 | 4/17/14 | RNAV (GPS) RWY 22, Amdt 3.
29-May-14 | NE | Scribner | Scribner State | 4/7964 | 4/15/14 | RNAV (GPS) RWY 35, Amdt 1.
29-May-14 | NY | Schenectady | Schenectady County | 4/7966 | 4/17/14 | RNAV (GPS) RWY 10, Orig-B.
29-May-14 | MI | Manistique | Schoolcraft County | 4/7968 | 4/15/14 | RNAV (GPS) RWY 10, Orig.
29-May-14 | OR | Madras | Madras Municipal | 4/7969 | 4/15/14 | RNAV (GPS) RWY 16, Amdt 1.
29-May-14 | OR | Madras | Madras Municipal | 4/7970 | 4/15/14 | RNAV (GPS) RWY 34, Orig.
29-May-14 | MT | Shelby | Shelby | 4/7971 | 4/15/14 | RNAV (GPS) RWY 23, Amdt 2.
29-May-14 | MT | Shelby | Shelby | 4/7975 | 4/15/14 | RNAV (GPS) RWY 5, Orig.
29-May-14 | OR | Eugene | Mahlon Sweet Field | 4/8027 | 4/15/14 | RNAV (RNP) Z RWY 34L, Orig.
29-May-14 | OR | Eugene | Mahlon Sweet Field | 4/8028 | 4/15/14 | RNAV (RNP) Z RWY 34R, Orig-A.
29-May-14 | OR | Eugene | Mahlon Sweet Field | 4/8030 | 4/15/14 | RNAV (GPS) Y RWY 16L, Amdt 2.
29-May-14 | OR | Eugene | Mahlon Sweet Field | 4/8031 | 4/15/14 | RNAV (GPS) Y RWY 34R, Amdt 2.
29-May-14 | OR | Eugene | Mahlon Sweet Field | 4/8032 | 4/15/14 | RNAV (GPS) Y RWY 16R, Amdt 1.
29-May-14 | NJ | Atlantic City | Atlantic City Intl | 4/8036 | 4/21/14 | RNAV (GPS) RWY 22, Amdt 4.
29-May-14 | NJ | Atlantic City | Atlantic City Intl | 4/8037 | 4/21/14 | RNAV (GPS) RWY 4, Amdt 2A.
29-May-14 | NJ | Atlantic City | Atlantic City Intl | 4/8039 | 4/21/14 | VOR/DME RWY 22, Amdt 6A.
29-May-14 | OR | Eugene | Mahlon Sweet Field | 4/8041 | 4/15/14 | RNAV (GPS) Y RWY 34L, Amdt 2.
29-May-14 | OR | Eugene | Mahlon Sweet Field | 4/8042 | 4/15/14 | RNAV (RNP) Z RWY 16L, Orig-A.
29-May-14 | OR | Eugene | Mahlon Sweet Field | 4/8043 | 4/15/14 | RNAV (RNP) Z RWY 16R, Orig.
29-May-14 | NE | Ogallala | Searle Field | 4/8045 | 4/17/14 | VOR/DME RWY 8, Amdt 1.
29-May-14 | NE | Ogallala | Searle Field | 4/8046 | 4/17/14 | RNAV (GPS) RWY 8, Amdt 2.
29-May-14 | NE | Ogallala | Searle Field | 4/8047 | 4/17/14 | VOR RWY 8, Amdt 6.
29-May-14 | IA | Clarinda | Schenck Field | 4/8049 | 4/16/14 | RNAV (GPS) RWY 2, Orig-A.
29-May-14 | NE | Ogallala | Searle Field | 4/8050 | 4/17/14 | RNAV (GPS) RWY 13, Orig-A.
29-May-14 | IA | Clarinda | Schenck Field | 4/8051 | 4/16/14 | RNAV (GPS) RWY 20, Orig-A.
29-May-14 | MA | Beverly | Beverly Muni | 4/8088 | 4/16/14 | RNAV (GPS) RWY 27, Orig.
29-May-14 | LA | Gonzales | Louisiana Rgnl | 4/8090 | 4/16/14 | RNAV (GPS) RWY 17, Amdt 1.
29-May-14 | LA | Gonzales | Louisiana Rgnl | 4/8091 | 4/16/14 | RNAV (GPS) RWY 35, Amdt 1.
29-May-14 | AK | Deadhorse | Deadhorse | 4/8108 | 4/21/14 | VOR RWY 23, Amdt 6.
29-May-14 | AK | Deadhorse | Deadhorse | 4/8111 | 4/21/14 | VOR RWY 5, Amdt 4.
29-May-14 | AK | Deadhorse | Deadhorse | 4/8121 | 4/21/14 | RNAV (RNP) Z RWY 5, Orig-A.
29-May-14 | WA | Seattle | Seattle-Tacoma Intl | 4/8222 | 4/17/14 | ILS RWY 34R (SA CAT I & II), Amdt 2B.
29-May-14 | AK | Big Lake | Big Lake | 4/8295 | 4/15/14 | RNAV (GPS) RWY 7, Amdt 1.
29-May-14 | AK | Big Lake | Big Lake | 4/8296 | 4/15/14 | VOR RWY 7, Amdt 7.
29-May-14 | AK | Big Lake | Big Lake | 4/8297 | 4/15/14 | RNAV (GPS) RWY 25, Amdt 1.
29-May-14 | AZ | Mesa | Falcon Fld | 4/8337 | 4/15/14 | RNAV (GPS) RWY 4L, Amdt 1.
29-May-14 | AZ | Mesa | Falcon Fld | 4/8342 | 4/15/14 | RNAV (GPS) RWY 4R, Amdt 1A.
29-May-14 | CA | Torrance | Zamperini Field | 4/8358 | 4/17/14 | RNAV (GPS) RWY 11L, Orig.
29-May-14 | CA | Torrance | Zamperini Field | 4/8359 | 4/17/14 | RNAV (GPS) RWY 29R, Orig-A.
29-May-14 | CA | Torrance | Zamperini Field | 4/8360 | 4/17/14 | VOR RWY 11L, Amdt 15.
29-May-14 | NV | Ely | Ely Arpt/Yelland Fld | 4/8361 | 4/17/14 | RNAV (GPS) RWY 18, Amdt 1.
29-May-14 | IN | Evansville | Evansville Rgnl | 4/8362 | 4/16/14 | RNAV (GPS) RWY 18, Amdt 1.
29-May-14 | CA | Shafter | Shafter-Minter Field | 4/8363 | 4/15/14 | RNAV (GPS) RWY 12, Amdt 1.
29-May-14 | NV | Eureka | Eureka | 4/8365 | 4/15/14 | RNAV (GPS) RWY 18, Orig.
29-May-14 | KY | Richmond | Madison | 4/8370 | 4/16/14 | RNAV (GPS) RWY 18, Amdt 1.
29-May-14 | KY | Richmond | Madison | 4/8371 | 4/16/14 | RNAV (GPS) RWY 36, Amdt 1.
29-May-14 | KY | Richmond | Madison | 4/8372 | 4/16/14 | VOR/DME RWY 18, Amdt 7.
29-May-14 | VA | Luray | Luray Caverns | 4/8377 | 4/17/14 | RNAV (GPS) RWY 4, Orig-A.
29-May-14 | VA | Luray | Luray Caverns | 4/8380 | 4/17/14 | RNAV (GPS) RWY 22, Amdt 1A.
29-May-14 | IA | Dubuque | Dubuque Rgnl | 4/8403 | 4/16/14 | RNAV (GPS) RWY 18, Orig.
29-May-14 | FL | Panama City | Northwest Florida Beaches Intl | 4/8406 | 4/16/14 | RNAV (GPS) RWY 16, Amdt 2.
29-May-14 | FL | Panama City | Northwest Florida Beaches Intl | 4/8407 | 4/16/14 | ILS OR LOC/DME RWY 16, Amdt 2.
29-May-14 | AR | Fayetteville/Springdale | Northwest Arkansas Rgnl | 4/8408 | 4/16/14 | ILS OR LOC/DME RWY 17, Orig-A.
29-May-14 | AR | Fayetteville/Springdale | Northwest Arkansas Rgnl | 4/8409 | 4/16/14 | RNAV (GPS) RWY 17, Orig-A.
29-May-14 | AK | Savoonga | Savoonga | 4/8416 | 4/15/14 | RNAV (GPS) RWY 5, Amdt 1B.
29-May-14 | AK | Savoonga | Savoonga | 4/8417 | 4/15/14 | RNAV (GPS) RWY 23, Amdt 1C.
29-May-14 | ME | Sanford | Sanford Seacoast Rgnl | 4/8418 | 4/16/14 | RNAV (GPS) RWY 7, Orig-A.
29-May-14 | ME | Sanford | Sanford Seacoast Rgnl | 4/8419 | 4/16/14 | VOR RWY 7, Amdt 4B.
29-May-14 | ME | Sanford | Sanford Seacoast Rgnl | 4/8421 | 4/16/14 | ILS OR LOC RWY 7, Amdt 4B.
29-May-14 | NC | Goldsboro | Wayne Executive Jetport | 4/8473 | 4/17/14 | RNAV (GPS) RWY 23, Amdt 1.
29-May-14 | NE | Wayne | Wayne Muni/Stan Morris Fld | 4/8474 | 4/17/14 | NDB RWY 36, Orig-A.
29-May-14 | KY | Hazard | Wendell H Ford | 4/8478 | 4/16/14 | LOC/DME RWY 14, Orig-A.
29-May-14 | KY | Hazard | Wendell H Ford | 4/8480 | 4/16/14 | VOR/DME RWY 14, Amdt 1B.
29-May-14 | NE | Wayne | Wayne Muni/Stan Morris Fld | 4/8481 | 4/17/14 | NDB RWY 18, Orig-A.
29-May-14 | CA | Watsonville | Watsonville Muni | 4/8482 | 4/17/14 | LOC RWY 2, Amdt 4.
29-May-14 | NE | Wayne | Wayne Muni/Stan Morris Fld | 4/8484 | 4/17/14 | RNAV (GPS) RWY 36, Amdt 2.
29-May-14 | NC | Goldsboro | Wayne Executive Jetport | 4/8486 | 4/17/14 | ILS OR LOC RWY 23, Amdt 2.
29-May-14 | CA | Watsonville | Watsonville Muni | 4/8487 | 4/17/14 | RNAV (GPS) RWY 2, Amdt 1A.
29-May-14 | NC | Goldsboro | Wayne Executive Jetport | 4/8488 | 4/17/14 | RNAV (GPS) RWY 5, Amdt 1.
29-May-14 | KY | Hazard | Wendell H Ford | 4/8489 | 4/16/14 | RNAV (GPS) RWY 14, Amdt 1A.
29-May-14 | NE | Wayne | Wayne Muni/Stan Morris Fld | 4/8490 | 4/17/14 | RNAV (GPS) RWY 18, Amdt 2.
29-May-14 | KY | Hazard | Wendell H Ford | 4/8491 | 4/16/14 | RNAV (GPS) RWY 32, Orig-A.
29-May-14 | MO | Sedalia | Sedalia Rgnl | 4/8535 | 4/17/14 | RNAV (GPS) RWY 18, Amdt 2.
29-May-14 | MO | Sedalia | Sedalia Rgnl | 4/8536 | 4/17/14 | RNAV (GPS) RWY 36, Amdt 2.
29-May-14 | UT | St George | St George Muni | 4/8560 | 4/15/14 | RNAV (GPS) RWY 1, Orig-A.
29-May-14 | HI | Honolulu | Honolulu Intl | 4/8675 | 4/15/14 | RNAV (RNP) Z RWY 4R, Amdt 1.
29-May-14 | HI | Honolulu | Honolulu Intl | 4/8676 | 4/15/14 | RNAV (RNP) Z RWY 8L, Amdt 1.
29-May-14 | HI | Honolulu | Honolulu Intl | 4/8678 | 4/15/14 | LOC/DME RWY 4R, Amdt 1.
29-May-14 | CA | San Luis Obispo | San Luis County Rgnl | 4/8700 | 4/17/14 | ILS RWY 11, Amdt 2A.
29-May-14 | CA | San Luis Obispo | San Luis County Rgnl | 4/8701 | 4/17/14 | LOC RWY 11, Orig-A.
29-May-14 | CA | San Luis Obispo | San Luis County Rgnl | 4/8702 | 4/17/14 | RNAV (GPS) RWY 11, Amdt 1.
29-May-14 | HI | Honolulu | Honolulu Intl | 4/8704 | 4/15/14 | RNAV (GPS) Y RWY 4R, Amdt 2.
29-May-14 | TX | Mason | Mason County | 4/9055 | 4/15/14 | RNAV (GPS) RWY 36, Orig.
29-May-14 | CA | Carlsbad | McClellan-Palomar | 4/9058 | 4/16/14 | RNAV (RNP) Z RWY 24, Orig-A.
29-May-14 | CA | Carlsbad | McClellan-Palomar | 4/9059 | 4/16/14 | ILS OR LOC/DME RWY 24, Amdt 9A.
29-May-14 | KS | Meade | Meade Muni | 4/9060 | 4/16/14 | RNAV (GPS) RWY 17, Orig.
29-May-14 | CA | Carlsbad | McClellan-Palomar | 4/9064 | 4/16/14 | RNAV (GPS) X RWY 24, Orig.
29-May-14 | CA | Carlsbad | McClellan-Palomar | 4/9066 | 4/16/14 | RNAV (GPS) Y RWY 24, Amdt 3.
29-May-14 | AR | McGehee | McGehee Muni | 4/9067 | 4/16/14 | RNAV (GPS) RWY 18, Orig.
29-May-14 | AR | McGehee | McGehee Muni | 4/9068 | 4/16/14 | RNAV (GPS) RWY 36, Orig.
29-May-14 | MI | Mason | Mason Jewett Field | 4/9071 | 4/17/14 | RNAV (GPS) RWY 10, Orig-A.
29-May-14 | CO | Canon City | Fremont County | 4/9079 | 4/15/14 | RNAV (RNP) RWY 11, Orig.
29-May-14 | CO | Canon City | Fremont County | 4/9080 | 4/15/14 | RNAV (GPS) Y RWY 29, Orig.
29-May-14 | CO | Canon City | Fremont County | 4/9081 | 4/15/14 | RNAV (RNP) Z RWY 29, Orig.
29-May-14 | MO | Maryville | Northwest Missouri Rgnl | 4/9119 | 4/17/14 | RNAV (GPS) RWY 32, Amdt 1.
29-May-14 | TX | Robstown | Nueces County | 4/9120 | 4/17/14 | RNAV (GPS) RWY 13, Orig.
29-May-14 | AL | Reform | North Pickens | 4/9121 | 4/16/14 | RNAV (GPS) RWY 19, Amdt 1.
29-May-14 | AL | Reform | North Pickens | 4/9122 | 4/16/14 | RNAV (GPS) RWY 1, Orig.
29-May-14 | TX | Sherman/Denison | North Texas Rgnl/Perrin Field | 4/9123 | 4/15/14 | RNAV (GPS) RWY 17L, Orig.
29-May-14 | TX | Sherman/Denison | North Texas Rgnl/Perrin Field | 4/9125 | 4/15/14 | ILS OR LOC RWY 17L, Amdt 1.
29-May-14 | TX | Sherman/Denison | North Texas Rgnl/Perrin Field | 4/9126 | 4/15/14 | RNAV (GPS) RWY 35R, Orig.
29-May-14 | TX | Sherman/Denison | North Texas Rgnl/Perrin Field | 4/9127 | 4/15/14 | NDB RWY 17L, Amdt 10.
29-May-14 | TX | Olney | Olney Muni | 4/9274 | 4/17/14 | RNAV (GPS) RWY 17, Orig.
29-May-14 | IA | Mason City | Mason City Muni | 4/9280 | 4/16/14 | ILS OR LOC RWY 36, Amdt 6D.
29-May-14 | IA | Mason City | Mason City Muni | 4/9282 | 4/16/14 | RNAV (GPS) RWY 36, Amdt 1.
29-May-14 | IA | Mason City | Mason City Muni | 4/9283 | 4/16/14 | VOR RWY 36, Amdt 6C.
29-May-14 | WI | Green Bay | Austin Straubel Intl | 4/9295 | 4/16/14 | LOC BC RWY 24, Amdt 19.
29-May-14 | MN | Austin | Austin Muni | 4/9296 | 4/16/14 | ILS OR LOC RWY 35, Amdt 1.
29-May-14 | KS | Augusta | Augusta Muni | 4/9297 | 4/16/14 | RNAV (GPS) RWY 36, Orig.
29-May-14 | TX | Austin | Austin-Bergstrom Intl | 4/9298 | 4/15/14 | ILS OR LOC RWY 17R, Amdt 4.
29-May-14 | TX | Austin | Austin-Bergstrom Intl | 4/9302 | 4/15/14 | RNAV (GPS) RWY 17L, Amdt 1.
29-May-14 | TX | Austin | Austin-Bergstrom Intl | 4/9303 | 4/15/14 | RNAV (GPS) RWY 17R, Amdt 1.
29-May-14 | MN | Austin | Austin Muni | 4/9304 | 4/16/14 | VOR RWY 35, Amdt 2.
29-May-14 | MN | Austin | Austin Muni | 4/9305 | 4/16/14 | RNAV (GPS) RWY 35, Amdt 1.
29-May-14 | WI | Marshfield | Marshfield Muni | 4/9339 | 4/16/14 | RNAV (GPS) RWY 16, Orig-B.
29-May-14 | WI | Marshfield | Marshfield Muni | 4/9340 | 4/16/14 | NDB RWY 16, Amdt 10.
29-May-14 | MI | Marlette | Marlette | 4/9341 | 4/17/14 | RNAV (GPS) RWY 19, Orig.
29-May-14 | AR | Marianna | Marianna/Lee County-Steve Edwards Field | 4/9347 | 4/16/14 | RNAV (GPS) RWY 36, Amdt 1.
29-May-14 | AR | Marianna | Marianna/Lee County-Steve Edwards Field | 4/9348 | 4/16/14 | RNAV (GPS) RWY 18, Amdt 1.
29-May-14 | AK | Marshall | Marshall Don Hunter Sr | 4/9349 | 4/15/14 | RNAV (GPS) RWY 7, Amdt 2.
29-May-14 | AZ | Marana | Marana Rgnl | 4/9350 | 4/15/14 | RNAV (GPS) RWY 12, Amdt 1A.
29-May-14 | CA | Marina | Marina Muni | 4/9351 | 4/17/14 | VOR RWY 11, Amdt 2.
29-May-14 | CA | Marina | Marina Muni | 4/9352 | 4/17/14 | VOR/DME RWY 29, Amdt 2B.
29-May-14 | AZ | Marana | Marana Rgnl | 4/9353 | 4/15/14 | RNAV (GPS) RWY 21, Amdt 1A.
29-May-14 | TX | Austin | Austin-Bergstrom Intl | 4/9373 | 4/15/14 | ILS OR LOC RWY 17L, Amdt 2.
29-May-14 | CQ | Rota Island | Benjamin Taisacan Manglona Intl | 4/9439 | 4/22/14 | RNAV (GPS) RWY 9, Amdt 1.
29-May-14 | GA | Butler | Butler Muni | 4/9568 | 4/16/14 | RNAV (GPS) RWY 36, Amdt 1.
29-May-14 | KS | Topeka | Forbes Field | 4/9593 | 4/15/14 | NDB RWY 13, Amdt 7.
29-May-14 | KS | Topeka | Forbes Field | 4/9594 | 4/15/14 | RNAV (GPS) RWY 21, Amdt 1.
29-May-14 | KS | Topeka | Forbes Field | 4/9595 | 4/15/14 | RNAV (GPS) RWY 3, Amdt 1.
29-May-14 | KS | Topeka | Forbes Field | 4/9596 | 4/15/14 | VOR/DME OR TACAN RWY 3, Amdt 6.
29-May-14 | WI | Park Falls | Park Falls Muni | 4/9636 | 4/11/14 | NDB RWY 36, Amdt 1.
29-May-14 | WI | Park Falls | Park Falls Muni | 4/9637 | 4/11/14 | RNAV (GPS) RWY 18, Orig-A.
29-May-14 | WI | Park Falls | Park Falls Muni | 4/9638 | 4/11/14 | RNAV (GPS) RWY 36, Orig-A.
29-May-14 | AZ | Flagstaff | Flagstaff Pulliam | 4/9661 | 4/17/14 | ILS OR LOC/DME RWY 21, Orig-F.
29-May-14 | WI | Sheboygan | Sheboygan County Memorial | 4/9683 | 4/17/14 | ILS OR LOC/DME RWY 22, Amdt 5.
29-May-14 | WA | Seattle | Seattle-Tacoma Intl | 4/9693 | 4/17/14 | ILS OR LOC RWY 16C, Amdt 14.
29-May-14 | WA | Seattle | Seattle-Tacoma Intl | 4/9698 | 4/17/14 | RNAV (GPS) Y RWY 34R, Amdt 2A.

[FR Doc. 2014-11556 Filed 5-22-14; 8:45 am]

BILLING CODE 4910-13-P